DEPARTMENT OF HEALTH AND HUMAN SERVICES

Administration for Children and Families

Proposed Information Collection Activity; Comment Request

Proposed Projects

Title: Tribal TANF (Temporary Assistance to Needy Families) Experience: Problems, Solutions, and Lesson Learned.

OMB Number: New collection.

Description: The proposed research has four objectives: (1) To develop national-level research-based information on tribal TANF that is responsive to the needs of the tribal governments in making decisions on initiating their own TANF programs, as well as the needs of policymakers at federal, state, and local levels; (2) to develop objective performance measures for tribal TANF programs; (3) to develop a decision-support system to help tribal officials assess the advantages, disadvantages, risks and opportunities associated with operating a TANF program; and (4) to develop a tribal TANF Handbook that incorporates the experiences, best practices, and lessons learned.

Support Services International, Incorporated (SSI), an Indian-owned consulting firm, shall develop the data collection instruments and conduct the study. Data will be collected through: (1) Telephone surveys with staff at all current tribal TANF programs (a total of 27), a sample of 10 non-TANF tribes, and relevant officials in 20 states; (2) in-depth interviews with program staff on site visits to 9 tribes (7 TANF tribes and 2 non-TANF tribes); and (3) focus groups of 6-9 TANF recipients at each of the 7 tribal TANF sites visited. Four respondents at each site will be included in the telephone survey, and four in each in-depth on-site interview. The non-TANF tribes includes in the research samples are from a group of tribes that have considered the option of developing and operating their own tribal-specific TANF programs, but have declined to do so.

Respondents: Individuals.

Annual Burden Estimates:

Data collection instrument | Estimated No. of respondents | Responses per respondents | Average burden hour per interview\*\ | Total burden hrs
Telephone Interview Guide | 228 | 1 | 0.50 | 114
Personal Interview Guide | 36 | 1 | 1.0 | 36
Focus Group Notes | 53 | 1 | 0.8 | 44

Estimated Total Annual Burden Hours: 194.

There are no Capital Costs, Operating Costs and/or Maintenance Costs to report for this information collection.

In compliance with Section 3506(c)(2)(A) of the Paperwork Reduction Act of 1995, the Administration for Children and Families (ACF) is soliciting public comment on the specific aspects of the information collection described above. Copies of the proposed collection of information can be obtained and comments may be forwarded to the Administration for Children and Families, Office of Information Services, 370 L'Enfant Promenade, S.W., Washington, DC 20447, Attn: ACF Reports Clearance Officer. All requests should be identified by the title of the information collection.

The Department specifically requests comments on: (a) Whether the information collection activity is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 13, 2000.
Bob Sargis,
Reports Clearance Officer.

[FR Doc. 00-26794 Filed 10-18-00; 8:45 am]

BILLING CODE 4150-04-M